DEPARTMENT OF ENERGY

Federal Energy Regulatory Commission

Combined Notice of Filings #1

Take notice that the Commission received the following electric rate filings:

Docket Numbers: ER19-38-004.

Applicants: Fairless Energy, L.L.C.

Description: Compliance filing: Settlement compliance filing to be effective 12/12/2018.

Filed Date: 11/14/19.

Accession Number: 20191114-5061.

Comments Due: 5 p.m. ET 12/5/19.

Docket Numbers: ER20-372-000.

Applicants: Pennsylvania Electric Company, Jersey Central Power & Light Company, Metropolitan Edison Company, PJM Interconnection, L.L.C.

Description: § 205(d) Rate Filing: Penelec et al submit Revised WASPs, Service Agreement Nos. 4221, 4222, and 4223 to be effective 1/12/2020.

Filed Date: 11/13/19.

Accession Number: 20191113-5146.

Comments Due: 5 p.m. ET 12/4/19.

Docket Numbers: ER20-373-000.

Applicants: Midcontinent Independent System Operator, Inc.

Description: § 205(d) Rate Filing: 2019-11-14_SA 3369 Entergy Mississippi (Choctaw) GIA to be effective 10/31/2019.

Filed Date: 11/14/19.

Accession Number: 20191114-5005.

Comments Due: 5 p.m. ET 12/5/19.

Docket Numbers: ER20-374-000.

Applicants: Duke Energy Carolinas, LLC.

Description: § 205(d) Rate Filing: DEC-Midway Solar Green ASOA (SA No. 529) to be effective 11/1/2019.

Filed Date: 11/14/19.

Accession Number: 20191114-5017.

Comments Due: 5 p.m. ET 12/5/19.

Docket Numbers: ER20-375-000.

Applicants: ISO New England Inc., Emera Maine.

Description: § 205(d) Rate Filing: Changes to ISO New England OATT Schedule 20A-EM to be effective 11/1/2020.

Filed Date: 11/14/19.

Accession Number: 20191114-5018.

Comments Due: 5 p.m. ET 12/5/19.

Docket Numbers: ER20-376-000.

Applicants: New York State Electric & Gas Corporation, New York Independent System Operator, Inc.

Description: § 205(d) Rate Filing: Reimbursement Agreement (SA 2492) between NYSEG and Greenidge Generation to be effective 10/18/2019.

Filed Date: 11/14/19.

Accession Number: 20191114-5027.

Comments Due: 5 p.m. ET 12/5/19.

Docket Numbers: ER20-377-000.

Applicants: PJM Interconnection, L.L.C.

Description: § 205(d) Rate Filing: First Revised ISA, SA No. 4807, Queue No. AD2-035 to be effective 10/15/2019.

Filed Date: 11/14/19.

Accession Number: 20191114-5082.

Comments Due: 5 p.m. ET 12/5/19.

Docket Numbers: ER20-378-000.

Applicants: Pacific Gas and Electric Company.

Description: § 205(d) Rate Filing: 11-14-19 Unexecuted Agreements, City and County of San Francisco WDT SA (SA 275) to be effective 1/13/2020.

Filed Date: 11/14/19.

Accession Number: 20191114-5093.

Comments Due: 5 p.m. ET 12/5/19.

Docket Numbers: ER20-379-000.

Applicants: Commonwealth Edison Company, PJM Interconnection, L.L.C.

Description: § 205(d) Rate Filing: ComEd submits revisions to OATT, Att. H13A re: Materials and Supplies to be effective 1/1/2020.

Filed Date: 11/14/19.

Accession Number: 20191114-5094.

Comments Due: 5 p.m. ET 12/5/19.

Docket Numbers: ER20-380-000.

Applicants: Midcontinent Independent System Operator, Inc.

Description: § 205(d) Rate Filing: 2019-11-14_SA 3370 ATC-Red Barn Energy GIA (J855) to be effective 10/30/2019.

Filed Date: 11/14/19.

Accession Number: 20191114-5121.

Comments Due: 5 p.m. ET 12/5/19.

Take notice that the Commission received the following qualifying facility filings:

Docket Numbers: QF20-280-000.

Applicants: Geisinger Wyoming Valley.

Description: Form 556 of Geisinger Wyoming Valley.

Filed Date: 11/14/19.

Accession Number: 20191114-5067.

Comments Due: None Applicable.

Docket Numbers: QF20-282-000.

Applicants: The Cooper Health System.

Description: Form 556 of The Cooper Health System.

Filed Date: 11/14/19.

Accession Number: 20191114-5104.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 14, 2019.
Nathaniel J. Davis, Sr.,
Deputy Secretary.

[FR Doc. 2019-25145 Filed 11-19-19; 8:45 am]

BILLING CODE 6717-01-P